DEPARTMENT OF HOMELAND SECURITY

Federal Emergency Management Agency

[Docket ID: FEMA-2018-0013; OMB No. 1660-0008]

Agency Information Collection Activities: Submission for OMB Review; Comment Request; Elevation Certificate/Floodproofing Certificate

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 30, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Joycelyn Collins, Program Analyst, Flood Insurance Directorate, at (202) 212-4716 or via email at joycelyn.collins@fema.dhs.gov.

SUPPLEMENTARY INFORMATION: This proposed information collection previously published in the Federal Register on March 9, 2018 at 83 FR 10510 with a 60 day public comment period. FEMA received one comment that was supportive of the information collection. The purpose of this notice is to notify the public that FEMA will submit the information collection abstracted below to the Office of Management and Budget for review and clearance.

Collection of Information

Title: Elevation Certificate/Floodproofing Certificate.

Type of Information Collection: Extension, without change, of a currently approved collection.

OMB Number: 1660-0008.

Form Titles and Numbers: FEMA Form 086-0-33, Elevation Certificate and FEMA Form 086-0-34, Floodproofing Certificate for Non-Residential Structures.

Abstract: The Elevation Certificate and Floodproofing Certificate are used in conjunction with the Flood Insurance Application to rate Post-Flood Insurance Rate Map (FIRM) buildings in Special Flood Hazard Areas. These forms are used for buildings constructed on or after the effective date of the initial FIRM for the community or after December 1, 1974, whichever is later.

Affected Public: Individuals or households, Business or other for-profit, Not-for-profit institutions; Farms; State, Local or Tribal Government.

Estimated Number of Respondents: 12,359.

Estimated Number of Responses: 12,359.

Estimated Total Annual Burden Hours: 46,345.75.

Estimated Total Annual Respondent Cost: $2,065,214.10.

Estimated Respondents' Operation and Maintenance Costs: $4,325,650.00.

Estimated Respondents' Capital and Start-Up Costs: 0.

Estimated Total Annual Cost to the Federal Government: $68,061.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Rachel Frier,
Records Management Branch Chief, Office of the Chief Administrative Officer, Mission Support, Federal Emergency Management Agency, Department of Homeland Security.

[FR Doc. 2018-13992 Filed 6-28-18; 8:45 am]

BILLING CODE 9111-47-P